DEPARTMENT OF COMMERCE

National Oceanic and Atmospheric Administration

[RTID 0648-XE128]

Mid-Atlantic Fishery Management Council (MAFMC); Public Meeting

AGENCY: National Marine Fisheries Service (NMFS), National Oceanic and Atmospheric Administration (NOAA), Commerce.

ACTION: Notice; public meeting.

SUMMARY: Fishery management bodies on the East Coast of the United States are convening a workshop to plan for integration of NOAA's Climate, Ecosystems, and Fisheries Initiative (CEFI) into the management processes of the East Coast Regional Fishery Management Councils and the Atlantic States Marine Fisheries Commission. This is a joint effort of the Atlantic States Marine Fisheries Commission, the New England Fishery Management Council, the Mid-Atlantic Fishery Management Council, the South Atlantic Fishery Management Council, and NOAA's National Marine Fisheries Service.

DATES: The meeting will be held from 1 p.m. Thursday, August 15 through 1 p.m. Friday, August 16, 2024. For agenda details, see SUPPLEMENTARY INFORMATION.

ADDRESSES:

Meeting address: The meeting will be held at the Westin Philadelphia, 99 South 17th Street, Philadelphia, PA 19103; telephone: (215) 563-1600.

The meeting will be partially streamed by webinar for portions of the agenda that are held in plenary. Connection information will be posted to the calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: This workshop is being organized by the East Coast Climate Coordination Group (E3CG), which was formed in 2023 to oversee implementation of climate-related actions associated with the East Coast Climate Change Scenario Planning Initiative. This group consists of leadership representatives from the New England, Mid-Atlantic, and South Atlantic Fishery Management Councils, the Atlantic States Marine Fisheries Commission, and NOAA Fisheries.

The purpose of this workshop is to set the stage for integrating NOAA's Climate, Ecosystems, and Fisheries Initiative (CEFI) into the fishery management processes of the East Coast Regional Fishery Management Councils and the Atlantic States Marine Fisheries Commission. The CEFI is building the operational ocean modeling and decision support system needed to assist fishery managers as they work to reduce impacts, increase resilience, and help marine resource users adapt to changing ocean conditions. This workshop will focus on CEFI and Council/Commission activities that are already under development. Discussions at this workshop may inform a follow-up meeting in 2025 to explore additional ways that CEFI products could be used to inform management, fill data gaps, and address research priorities.

This workshop will aim to improve managers understanding of the purpose and capabilities of CEFI, share information about upcoming management projects related to fisheries resilience under a changing climate, clarify ongoing and planned draft Northeast and Southeast Fisheries Science Center CEFI projects, clarify which CEFI projects are priorities for management, create a shared understanding of management on-ramps for integrating CEFI into ongoing and planned Council and Commission initiatives and actions, and identify mechanisms for ongoing coordination and collaboration.

Participants have been identified by each participating organization. Others attending the meeting in person are invited to observe the plenary. Plenary sessions will be broadcast by webinar. Additional details about the workshop, including webinar details, will be posted to this page once available: https://www.mafmc.org/council-events/2024/aug15-16/cefi-workshop.

Special Accommodations

The meeting is physically accessible to people with disabilities. Requests for sign language interpretation or other auxiliary aids should be directed to Shelley Spedden at the Council Office, (302) 526-5251, at least 5 days prior to the meeting date.

Authority: 16 U.S.C. 1801 et seq.

Dated: July 24, 2024.
Rey Israel Marquez,
Acting Deputy Director, Office of Sustainable Fisheries, National Marine Fisheries Service.

[FR Doc. 2024-16624 Filed 7-26-24; 8:45 am]

BILLING CODE 3510-22-P